DEPARTMENT OF COMMERCE

International Trade Administration

[A-533-840]

Certain Frozen Warmwater Shrimp From India: Final Results of Antidumping Duty Administrative Review; 2022-2023

AGENCY: Enforcement and Compliance, International Trade Administration, Department of Commerce.

SUMMARY: The U.S. Department of Commerce (Commerce) determines that certain frozen warmwater shrimp (shrimp) from India is being, or is likely to be, sold in the United States at less than normal value (NV) during the period of review (POR) February 1, 2022, through January 31, 2023.

DATES: Applicable July 10, 2024.

FOR FURTHER INFORMATION CONTACT: Ashley Cossaart, AD/CVD Operations, Office IX, Enforcement and Compliance, International Trade Administration, U.S. Department of Commerce, 1401 Constitution Avenue NW, Washington, DC 20230; telephone: (202) 482-0462.

SUPPLEMENTARY INFORMATION:

Background

On March 5, 2024, Commerce published the Preliminary Results and invited comments from interested parties.¹ We received no substantive comments by interested parties regarding our Preliminary Results.² Accordingly, as the final results remain unchanged from the Preliminary Results, there is no decision memorandum accompanying this notice.

¹ See Certain Frozen Warmwater Shrimp from India: Preliminary Results of Antidumping Duty Administrative Review and Partial Rescission; 2022-2023, 89 FR 15821 (March 5, 2024) (Preliminary Results), and accompanying Preliminary Decision Memorandum (PDM).

² We note that, on April 4, 2024, RSA Marines/Royal Oceans (RSA Marines) submitted a case brief asking Commerce to amend its draft liquidation instructions to include the name of “RSA Marines” as “Importer.” See RSA Marines' Letter, “Case Brief of RSA Marines,” dated April 4, 2024. We intend to revise the draft liquidation instructions to reflect this change. RSA Marines raised no other comments in its case brief, and we received no other comments from interested parties on the Preliminary Results.

Commerce conducted this administrative review in accordance with section 751 of the Tarriff Act of 1930, as amended (the Act).

Scope of the Order ³

³ See Notice of Amended Final Determination of Sales at Less Than Fair Value and Antidumping Duty Order: Certain Frozen Warmwater Shrimp from India, 70 FR 5147 (February 1, 2005) (Order).

The subject merchandise covered by this Order is certain frozen warmwater shrimp.⁴

⁴ For a complete description of the scope of the Order, see Preliminary Results PDM at 3.

Review-Specific Rate for Non-Examined Companies

The Act and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually examined, excluding any margins that are zero, de minimis (i.e., less than 0.5 percent), or determined entirely on the basis of facts available.”

For these final results, because the rate calculated for RSA Marines is zero percent, we have assigned the rate calculated for NK Marine Exports LLP (NK Marine) (i.e., 2.49 percent) to the non-selected companies.

Final Results of Review

For these final results, we determine that the following estimated weighted-average dumping margins exist for the respondents for the period February 1, 2022, through January 31, 2023:

Exporter/producer | Weighted- average dumping margin (percent)
NK Marine Exports LLP | 2.49
RSA Marines; Royal Oceans | 0.00
Review-Specific Rate for Non-Examined Companies ⁵ | 2.49

Disclosure

⁵ The exporters or producers not selected for individual examination are listed in the appendix.

Normally, Commerce will disclose to the parties in a proceeding the calculations performed in connection with the final results of review within five days of any public announcement or, if there is no public announcement, within five days of the date of publication of the notice of final results in the Federal Register, in accordance with 19 CFR 351.224(b). However, because we made no changes from the Preliminary Results, there are no new calculations to disclose.

Assessment Rates

Pursuant to section 751(a)(2)(C) of the Act and 19 CFR 351.212(b)(1), Commerce has determined, and U.S. Customs and Border Protection (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), because both respondents reported the entered value for all of their U.S. sales, we calculated importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

Commerce's “automatic assessment” practice will apply to entries of subject merchandise during the POR produced by NK Marine or RSA Marines for which these companies did not know that the merchandise they sold to the intermediary (e.g., a reseller, trading company, or exporter) was destined for the United States. In such instances, we will instruct CBP to liquidate unreviewed entries at the all-others rate if there is no rate for the intermediate company(ies) involved in the transaction.⁶

⁶ For a full discussion of this practice, see Antidumping and Countervailing Duty Proceedings: Assessment of Antidumping Duties, 68 FR 23954 (May 6, 2003).

For the companies listed in the appendix which were not selected for individual examination, we will assign an assessment rate based on the rate calculated for NK Marine, as noted above.

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for the companies listed above will be the rates shown above, except if the rate is less than 0.50 percent and, therefore, de minimis within the meaning of 19 CFR 351.106(c)(1), in which case the cash deposit rate will be zero; (2) for previously reviewed or investigated companies not covered by this review, the cash deposit will continue to be the company-specific rate published for the most recently completed segment of this proceeding in which the company participated; (3) if the exporter is not a firm covered in this review, or the less-than-fair-value (LTFV) investigation, but the manufacturer is, the cash deposit rate will be the rate established for the most recent segment for the manufacturer of the merchandise; and (4) the cash deposit rate for all other manufacturers or exporters will continue to be 10.17 percent, the all-others rate established in the LTFV investigation.⁷ These cash deposit requirements, when imposed, shall remain in effect until further notice.

⁷ See Order, 70 FR 5147.

Notification to Importers

This notice serves as a final reminder to importers of their responsibility under 19 CFR 351.402(f) to file a certificate regarding the reimbursement of antidumping duties prior to liquidation of the relevant entries during this review period. Failure to comply with this requirement could result in the Commerce's presumption that reimbursement of antidumping duties occurred and the subsequent assessment of double antidumping duties.

Administrative Protective Order

This notice serves as the only reminder to parties subject to an administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

This notice is issued and published in accordance with sections 751(a)(1) and 777(i) of the Act, and 19 CFR 351.221(b)(5).

Dated: July 3, 2024.
Ryan Majerus,
Deputy Assistant Secretary for Policy and Negotiations, performing the non-exclusive functions and duties of the Assistant Secretary for Enforcement and Compliance.

Appendix

Review-Specific Rate Applicable to Companies Not Selected for Individual Examination

1. Accelerated Freeze Drying Co.

2. ADF Foods Ltd.

3. Albys Agro Private Limited

4. Blue Park Seafoods Pvt. Ltd.

5. C.P. Aquaculture (India) Pvt. Ltd.

6. Corlim Marine Exports Pvt. Ltd.

7. Dwaraka Sea Foods

8. Hari Marine Private Limited

9. High Care Marine Foods Exports Private Limited

10. Highland Agro

11. Hyson Exports Private Limited

12. Jude Foods India Private Limited

13. Kay Kay Exports; Kay Kay Foods

14. Mangala Sea Products

15. Megaa Moda Pvt. Ltd.

16. Milsha Agro Exports Pvt. Ltd.

17. Mindhola Foods LLP

18. MMC Exports Limited

19. Naq Foods India Private Limited

20. Orchid Marine Exports Private Limited

21. Rajyalakshmi Marine Exports

22. Sahada Exports

23. Sai Aquatechs Private Limited

24. Shimpo Exports Private Limited

25. Sigma Seafoods

26. Sonia Marine Exports Private Limited

27. Sterling Foods

28. Supran Exim Private Limited

29. Uniloids Biosciences Private Limited

30. Vinner Marine

31. West Coast Fine Foods (India) Private Limited

32. West Coast Frozen Foods Private Limited

33. Zeal Aqua Limited

[FR Doc. 2024-15180 Filed 7-9-24; 8:45 am]

BILLING CODE 3510-DS-P